DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Port Authority Trans-Hudson Corporation

[Waiver Petition Docket Number FRA-2010-0104]

The Port Authority Trans-Hudson Corporation (PATH) seeks a waiver of compliance with the Locomotive Safety Standards, 49 CFR 229.129(b)(2), which requires that the sound level of horns of locomotives manufactured before September 18, 2006, be tested before June 24, 2010.

PATH operates a closed interstate rail transit system between New York and New Jersey, with no public highway-rail grade crossings. PATH is in the process of replacing its entire fleet of electric MU rail cars used in passenger service. To date, 122 new cars have been delivered and are in compliance with horn testing requirements for locomotives built after September 18, 2006. PATH continues to operate 223 electric MU railcars manufactured prior to the September 18, 2006, date that require testing. PATH will scrap all but 52 of the cars built prior to September 18, 2006, over the next 18 months. The 52 remaining cars will be used as work cars (maintenance of way).

PATH states that due to the size of the railroad, there is only one location (Harrison Yard) that meets the criteria of the horn testing requirements. This a storage yard, and to utilize this facility, would cause PATH to hold 4 storage tracks out of service which would cripple PATH's operation. PATH requests a waiver from the horn testing requirements for the cars that were manufactured prior to September 18, 2006, that will be scraped within the next 18 months and a reasonable extension of time period to test the 52 cars they will retain for work service.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2010-0104) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on June 25, 2010.
Michael J. Logue,
Deputy Associate Administrator for Safety Compliance and Program Implementation.

[FR Doc. 2010-16067 Filed 6-30-10; 8:45 am]

BILLING CODE 4910-06-P